NUCLEAR REGULATORY COMMISSION

[Docket No. 55-23694-SP; ASLBP No. 13-925-01-SP-BD01]

Charlissa C. Smith; Establishment of Atomic Safety and Licensing Board

Pursuant to delegation by the Commission, see 37 FR 28,710 (Dec. 29, 1972), and the Commission's regulations, see 10 CFR §§ 2.103(b), 2.300, 2.309, 2.313(a), 2.318, and 2.321, notice is hereby given that an Atomic Safety and Licensing Board (Board) is being established to preside over the following proceeding:

Charlissa C. Smith, (Denial of Senior Reactor Operator License).

This proceeding concerns a hearing request from Charlissa C. Smith, dated December 5, 2012, challenging a denial letter from the Office of Nuclear Reactor Regulation, Nuclear Regulatory Commission (NRC) dated November 15, 2012 notifying her that, following an administrative review, the NRC is in agreement with Region II's decision of May 11, 2012 not to issue her a Senior Reactor Operator License for the Vogtle Power Station.

The Board is comprised of the following administrative judges:

Alan S. Rosenthal, Chair, Atomic Safety and Licensing Board Panel, U.S. Nuclear Regulatory Commission, Washington, DC 20555-0001.

Ronald M. Spritzer, Atomic Safety and Licensing Board Panel, U.S. Nuclear Regulatory Commission, Washington, DC 20555-0001.

Brian K. Hajek, Atomic Safety and Licensing Board Panel, U.S. Nuclear Regulatory Commission, Washington, DC 20555-0001.

As provided in 10 CFR 2.302, all correspondence, documents, and other materials shall be filed in accordance with the NRC E-Filing rule, which the NRC promulgated in August 2007 (72 FR 49,139).

Issued at Rockville, Maryland, this 4th day of January 2013.
E. Roy Hawkens,
Chief Administrative Judge, Atomic Safety and Licensing Board Panel.

[FR Doc. 2013-00328 Filed 1-9-13; 8:45 am]

BILLING CODE 7590-01-P